DEPARTMENT OF TRANSPORTATION

Federal Aviation Administration

Public Notice for Waiver for Aeronautical Land-Use Assurance at Will Rogers World Airport, Oklahoma City, OK

AGENCY: Federal Aviation Administration, DOT.

ACTION: Notice of Intent for Waiver of Aeronautical Land-Use.

SUMMARY: The Federal Aviation Administration (FAA) is considering a proposal to change a portion of the airport from aeronautical use to nonaeronautical use and to authorize the conversion of the airport property. The proposal consists of three parcels of land containing a total of approximately 127 acres located on the east side of the airport between South Portland Avenue and Interstate Highway 44.

These parcels were originally acquired under the following grants: Airport Improvement Program (AIP) Nos. 3-40-0072-03 and 3-40-0072-07 in 1990; AIP No. 3-40-0072-23 in 1992; and AIP No. 3-40-0072-24 in 1993. The land comprising these parcels is outside the forecasted need for aviation development and, thus, is no longer needed for indirect or direct aeronautical use. The Airport wishes to develop this land for compatible commercial, nonaeronautical use. The income from the conversion of these parcels will benefit the aviation community by reinvestment in the airport.

Approval does not constitute a commitment by the FAA to financially assist in the conversion of the subject airport property nor a determination of eligibility for grant-in-aid funding from the FAA. The disposition of proceeds from the conversion of the airport property will be in accordance with FAA's Policy and Procedures Concerning the Use of Airport Revenue, published in the Federal Register on February 16, 1999. In accordance with section 47107(h) of title 49, United States Code, this notice is required to be published in the Federal Register 30 days before modifying the land-use assurance that requires the property to be used for an aeronautical purpose.

DATES: Comments must be received on or before March 14, 2012.

ADDRESSES: Send comments on this document to Mr. Edward N. Agnew, Federal Aviation Administration, Arkansas/Oklahoma Airports Development Office Manager, 2601 Meacham Boulevard, Fort Worth, TX 76137.

FOR FURTHER INFORMATION CONTACT: Mr. Mark Kranenburg, Director of Airports, The City of Oklahoma City, 7100 Terminal Drive, Oklahoma City, OK 73159, telephone (405) 316-3200; or Mr. Edward N. Agnew, Federal Aviation Administration, Arkansas/Oklahoma Airports Development Office Manager, 2601 Meacham Boulevard, Fort Worth, TX 76137, telephone (817) 222-5630, FAX (817) 222-5987. Documents reflecting this FAA action may be reviewed at the above locations.

Issued in Fort Worth, TX, on February 1, 2012.
Kelvin L. Solco,
Manager, Airports Division, FAA, Southwest Region.

[FR Doc. 2012-3146 Filed 2-10-12; 8:45 am]

BILLING CODE P